DEPARTMENT OF COMMERCE

Foreign-Trade Zones Board

[B-67-2016]

Foreign-Trade Zone (FTZ) 82—Mobile, Alabama; Authorization of Limited Production Activity; Airbus Americas, Inc. (Commercial Passenger Jet Aircraft Production); Mobile, Alabama

On September 29, 2016, the City of Mobile, Alabama, grantee of FTZ 82, submitted a notification of proposed production activity to the FTZ Board on behalf of Airbus Americas, Inc., within Site 1, in Mobile, Alabama.

The notification was processed in accordance with the regulations of the FTZ Board (15 CFR part 400), including notice in the Federal Register inviting public comment (81 FR 69780-69782, October 7, 2016). The FTZ Board has determined that further review of part of the proposed activity is warranted at this time. The production activity described in the notification is authorized on a limited basis, subject to the FTZ Act and the Board's regulations, including Section 400.14, and further subject to a restriction requiring that the following foreign-status materials/components be admitted to the zone in privileged foreign status (19 CFR 146.41): Pre-Preg NOMEX rigid flight accessory cases (HTSUS 4202.12); leather cases and pouches for storing equipment (HTSUS 4202.91); textile pouches for storing equipment (HTSUS 4202.92); leather pockets (HTSUS 4205.00); twill tape (HTSUS 5208.39); synthetic sowing yarn (HTSUS 5401.10); water absorbent felt (HTSUS 5602.10); synthetic braided cordage (HTSUS 5607.50); synthetic emergency escape rope and retaining cords (HTSUS 5609.00); synthetic fireproof gloves (HTSUS 6116.93); finished aircraft curtain and class divider assemblies (HTSUS 6303.92); and, life vests (HTSUS 6307.20).

Dated: January 26, 2017.
Andrew McGilvray,
Executive Secretary.

[FR Doc. 2017-02171 Filed 2-1-17; 8:45 am]

BILLING CODE 3510-DS-P